DEPARTMENT OF COMMERCE

International Trade Administration

[Application No. 17-00001]

Export Trade Certificate of Review

ACTION: Notice of application for an Export Trade Certificate of Review for ADM Rice, Inc. and ADM Export Co., Application No. 17-00001.

SUMMARY: The Office of Trade and Economic Analysis (“OTEA”) of the International Trade Administration, Department of Commerce, has received an application for an Export Trade Certificate of Review (“Certificate”). This notice summarizes the proposed application and requests comments relevant to whether the Certificate should be issued.

FOR FURTHER INFORMATION CONTACT: Joseph Flynn, Director, Office of Trade and Economic Analysis, International Trade Administration, (202) 482-5131 (this is not a toll-free number) or email at etca@trade.gov.

SUPPLEMENTARY INFORMATION: Title III of the Export Trading Company Act of 1982 (15 U.S.C. 4001-21) authorizes the Secretary of Commerce to issue Export Trade Certificates of Review. An Export Trade Certificate of Review protects the holder and the members identified in the Certificate from State and Federal government antitrust actions and from private treble damage antitrust actions for the export conduct specified in the Certificate and carried out in compliance with its terms and conditions. Section 302(b)(1) of the Export Trading Company Act of 1982 and 15 CFR 325.6(a) require the Secretary to publish a notice in the Federal Register identifying the applicant and summarizing its proposed export conduct.

Request for Public Comments

Interested parties may submit written comments relevant to the determination whether an amended Certificate should be issued. If the comments include any privileged or confidential business information, it must be clearly marked and a nonconfidential version of the comments (identified as such) should be included. Any comments not marked as privileged or confidential business information will be deemed to be nonconfidential.

An original and five (5) copies, plus two (2) copies of the nonconfidential version, should be submitted no later than 20 days after the date of this notice to: Export Trading Company Affairs, International Trade Administration, U.S. Department of Commerce, Room 21028, Washington, DC 20230.

Information submitted by any person is exempt from disclosure under the Freedom of Information Act (5 U.S.C. 552). However, nonconfidential versions of the comments will be made available to the applicant if necessary for determining whether or not to issue the Certificate. Comments should refer to this application as “Export Trade Certificate of Review, application number 17-00001.”

A summary of the current application follows.

Summary of the Application

Applicant: ADM Rice, Inc. and ADM Export Co., 600 White Plains Road #605, Tarrytown, New York, 10591.

Contact: Andrew Shoyer, Partner—Sidley Austin LLP; Telephone: (202) 736-8326.

Application No.: 17-00001.

Date Deemed Submitted: March 10, 2017.

Summary: ADM Rice, Inc. and ADM Export Co. seek a Certificate of Review to engage in the Export Trade Activities and Methods of Operation described below in the following Export Trade and Export Markets:

Export Trade

Products: ADM Rice, Inc. and ADM Export Co. propose to export under the Certificate, directly and through other suppliers, rice and rice products, including but not limited to: Harvest rice; rough rice; brown rice; milled, under milled, and unpolished rice; coated rice; oiled rice; enriched rice; rice bran; polished rice; head rice; broken rice; second head rice; brewers rice; screenings; and rice flour; but not wild rice. This includes U.S. Calrose, U.S. Akitakomachi, Calhikari, U.S. Koshihikari, U.S. Mochi, and U.S. M-401. Listed below are the North American Industry Classification System codes at the six-digit level for the rice products that ADM Rice, Inc. and ADM Export Co. intend to export:

• 1006.10

• 1006.20

• 1006.30

• 1006.40

Services: All services related to the export of Products.

Technology Rights: All intellectual property rights associated with Products or Services, including, but not limited to: Patents, trademarks, services marks, trade names, copyrights, neighboring (related) rights, trade secrets, know-how, and confidential databases and computer programs.

Export Trade Facilitation Services: Services to facilitate the export of Products, including but not limited to: Consulting and trade strategy; converting harvest rice to marketable finished rice products via the drying, storage, milling and packaging process for export; arranging and coordinating delivery of products to port of export; arranging for inland and/or marine transportation; allocating products to vessel; arranging for storage space at port; arranging for warehousing, stevedoring, wharfage, handling, inspection, fumigation and freight forwarding; insurance and financing; documentation and services related to compliance with customs requirements; sales and marketing; export brokerage; foreign marketing and analysis; foreign market development; overseas advertising and promotion; product-related research and design based upon foreign buyer and consumer preferences; inspection and quality control; shipping and export management; export licensing; provisions of overseas sales and distribution facilities and overseas sales staff; legal, accounting, and tax assistance; development and application of management information systems; trade show exhibitions; professional services in the area of government relations and assistance with federal and state export assistance programs; invoicing foreign buyers; collecting payment for products; and arranging for payment of applicable commissions and fees.

Export Markets

The Export Markets include all parts of the world except the United States (the fifty states of the United States, the District of Columbia, the Commonwealth of Puerto Rico, the Virgin Islands, American Samoa, Guam, the Commonwealth of the Northern Mariana Islands, and the Trust Territory of the Pacific Islands).

Export Trade Activities and Methods of Operations

To engage in Export Trade in the Export Markets, ADM Rice, Inc. and ADM Export Co. may:

1. Exchange information with Suppliers or Export Intermediaries individually regarding the availability of Products for export, prices of Products for sale in the Export Markets, and coordinating the export of Products to Export Markets;

2. Process other Suppliers' harvest rice to marketable finished Products for Export Markets via drying, storage, milling, and packaging processes;

3. Solicit orders for the export of Products from potential foreign distributors and purchasers in Export Markets;

4. Prepare and submit offers of Products to potential foreign distributors, purchasers, and other entities for sale in Export Markets;

5. Establish the price and quantity of Products for sale in Export Markets and set other terms for any export sale;

6. Negotiate and enter into agreements for sale of Products in Export Markets;

7. Enter into agreements to purchase Products from one or more Suppliers to fulfill specific export sales obligations;

8. Apply for and utilize government export assistance and incentive programs; and

9. Meet with Suppliers or other entities periodically to discuss general matters specific to the activities approved in this Certificate (not related to price and supply arrangements between ADM Rice, Inc. and ADM Export Co. and the individual Suppliers) such as relevant facts concerning the Export Markets (e.g., demand conditions, transportation costs and prices in the export markets), or the possibility of joint marketing, bidding or selling arrangements in the Export Markets.

Definition

“Supplier” means a person who mills, produces, provides, markets, or sells Products, Services and/or Technology Rights.

“Export Intermediary” means a person who acts as a distributor, representative, sales or marketing agent, joint marketer, or broker, or who performs similar functions.

Dated: March 21, 2017.
Amanda Reynolds,
Office of Trade and Economic Analysis, International Trade Administration, U.S. Department of Commerce.

[FR Doc. 2017-05866 Filed 3-23-17; 8:45 am]

BILLING CODE 3510-DR-P